DEPARTMENT OF JUSTICE

[OMB Number 1122-0007]

Agency Information Collection Activities; Proposed eCollection eComments Requested; Extension of a Previously Approved Collection; Semi-Annual Progress Report for the Legal Assistance for Victims Program (LAV Program)

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until August 27, 2024.

FOR FURTHER INFORMATION CONTACT: If you have additional comments especially on the estimated public burden or associated response time, suggestions, or need a copy of the proposed information collection instrument with instructions or additional information, please contact Catherine Poston, Office on Violence Against Women, at 202-514-5430 or Catherine.poston@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Authorized by 34 U.S.C. 20121, the Legal Assistance for Victims (LAV) Grant Program is intended to increase the availability of civil and criminal legal assistance needed to effectively aid victims (ages 11 and older) of domestic violence, dating violence, sexual assault, and stalking by providing funds for comprehensive direct legal services to victims in legal matters relating to or arising out of that abuse or violence. “Legal assistance” includes assistance to victims of domestic violence, dating violence, sexual assault, and stalking in: (a) family, tribal, territorial, immigration, employment, administrative agency, housing matters, campus administrative, or protection or stay away order proceedings, and other similar matters; (b) criminal justice investigations, prosecutions, and post-trial matters (including sentencing, parole, and probation) that impact the victim's safety and privacy; (c) alternative dispute resolution, restorative practices, or other processes intended to promote victim safety, privacy, and autonomy; and (d) post-conviction relief proceedings in state, local, Tribal, or territorial court where the conviction of a victim is related to or arising from domestic violence, dating violence, sexual assault, stalking, or sex trafficking. 34 U.S.C. 12291(a)(24)(C) and (D).

Overview of This Information Collection

1. Type of Information Collection: Extension of a previously approved collection.

2. The Title of the Form/Collection: Semi-Annual Progress Report for Grantees of the Legal Assistance for Victims Grant Program.

3. The agency form number, if any, and the applicable component of the Department sponsoring the collection: 1122-0007.

Affected public who will be asked or required to respond, as well as the obligation to respond: The affected public includes the approximately 200 grantees of the LAV Program whose eligibility is determined by statute. The LAV Program awards grants to law school legal clinics, legal aid or legal services programs, domestic violence victims shelters, bar associations, sexual assault programs, private nonprofit entities, and Indian tribal governments. The obligation to respond is required to obtain/retain a benefit.

4. An estimate of the total number of respondents and the amount of time estimated for an average respondent to respond: It is estimated that it will take the approximately 200 respondents (LAV Program grantees) approximately one hour to complete a semi-annual progress report. The semi-annual progress report is divided into sections that pertain to the different types of activities in which grantees may engage. An LAV Program grantee will only be required to complete the sections of the form that pertain to its own specific activities.

5. An estimate of the total annual burden (in hours) associated with the collection: It is estimated that it will take the approximately 200 respondents (LAV Program grantees) approximately one hour to complete a semi-annual progress report. The semi-annual progress report is divided into sections that pertain to the different types of activities in which grantees may engage. An LAV grantee will only be required to complete the sections of the form that pertain to its own specific activities.

6. The total annual hour burden to complete the data collection forms is 400 hours, that is 200 grantees completing a form twice a year with an estimated completion time for the form being one hour.

7. An estimate of the total annual cost burden associated with the collection, if applicable: The annualized costs to the Federal Government resulting from the OVW staff review of the progress reports submitted by grantees are estimated to be $22,400.

8.

Total Burden Hours
Activity | Number of respondents | Frequency | Total annual responses | Time per response (hours) | Total annual burden (hours)
Progress Report Form | 200 | 2/semiannually | 400 | 1 | 400
Unduplicated Totals | 200 |  | 400 |  | 400

If additional information is required contact: Darwin Arceo, Department Clearance Officer, United States Department of Justice, Justice Management Division, Policy and Planning Staff, Two Constitution Square, 145 N Street NE, 4W-218, Washington, DC.

Dated: June 24, 2024.
Darwin Arceo,
Department Clearance Officer for PRA, U.S. Department of Justice.

[FR Doc. 2024-14192 Filed 6-27-24; 8:45 am]

BILLING CODE 4410-FX-P